DEPARTMENT OF JUSTICE

[AAG/A Order No. 191-2000]

Privacy Act of 1974; System of Records

AGENCY: Department of Justice.

ACTION: Notice of a Modified System of Records.

SUMMARY: Under the provisions of the Privacy Act of 1974 (5 U.S.C. 552a), the Environment and Natural Resources Division, Department of Justice, proposes to modify two systems of records last published in the Federal Register on September 30, 1977 (42 FR 53351), and entitled, “Appraisers File (JUSTICE/LDN-001),” and “Title Abstractors, Attorneys and Insurance Corporations File (JUSTICE/LDN-004).”

Specifically, the Division will modify the system notice by consolidating the two notices into one and renaming it, “Appraisers, Approved Attorneys, Abstractors and Title Companies Files Database System (JUSTICE/ENRD-001)”; updating and clarifying information, and adding a routine use (information may be shared with other federal agencies). For public convenience, the revised system notice has been printed below in full, replacing the previous notice in its entirety.

Sections 552a(e) (4) and (11) of the Privacy Act require that the public be given 30 days to comment on new routine uses of information in the system. The Office of Management and Budget (OMB), which has oversight responsibility under the Act, requires 40 days to review the proposed new routine uses and exemptions for the system. Therefore, the public, OMB, and the Congress are invited to submit written comments by April 3, 2000.

DATES: The proposed modifications to the System of Records will be effective April 3, 2000, unless comments are received that result in a contrary determination.

ADDRESSES: Submit written comments to the Department of Justice, ATTN: Mary E. Cahill, Management Analyst, Management and Planning Staff, Justice Management Division, Department of Justice, National Place Building, Room 1400 North, 1331 Pennsylvania Avenue, NW, Washington, DC 20530. If no comments are received, the proposal will be implemented without further notice in the Federal Register.

Dated: January 27, 2000.
Stephen R. Colgate,
Assistant Attorney General for Administration.

JUSTICE/ENRD—001

system name:

Appraisers, Approved Attorneys, Abstractors and Title Companies Files Database System.

Security classification:

Unclassified.

System location:

U.S. Department of Justice, Environment and Natural Resources Division, Land Acquisition Section, 601 Pennsylvania Avenue, NW, Washington, DC 20004.

Categories of individuals covered by the system:

(1) Appraisers who have prepared real property appraisals, whose work has been reviewed by the Appraisal Unit, Environment and Natural Resources Division, in conjunction with anticipated or pending litigation. (2) Attorneys, title abstractors, and title insurance companies that have applied and been deemed qualified to prepare title evidence for land acquisitions by the United States.

Categories of records in the system:

This system includes automated records relating to (1) the qualifications of appraisers who have provided real estate appraisals to the Appraisal Unit, Environment and Natural Resources Division, in conjunction with anticipated or pending litigation; and (2) records relating to title evidence providers, including applications, supporting information, and information relating to qualifications received by the Environment and Natural Resources Division.

Authority for maintenance of the system:

Authority to establish and maintain this system is contained in 28 U.S.C. 509 and 510, 28 CFR part O, subpart M, and 40 U.S.C. 257 et seq., which authorize the Attorney General to conduct litigation, particularly proceedings for condemnation of property, and 5 U.S.C. 301 and 44 U.S.C. 3101, which authorize the Attorney General to create and maintain federal records of agency activities.

Purpose(s):

(1) Appraisal information is maintained so that an appraiser's credentials, experience, and performance can be referenced and evaluated when the Division seeks an appraiser for work in anticipated or pending litigation. (2) Title evidence information is maintained so that a provider's performance can be referenced when the Division seeks a qualified provider for work being reviewed.

Routine uses of records maintained in the system, including categories of users and purposes of such uses:

(1) Records may be disclosed to the National Archives and Records Administration in records management inspections conducted under the authority of 44 U.S.C. 2904 and 2906.

(2) Records relating to attorneys, abstractors, or title companies may be disclosed to other Federal agencies to help them hire such professionals.

Disclosure to consumer reporting agencies:

None.

Policies and practices for storing, retrieving, accessing, retaining, and disposing of records in the system:

Storage:

Information is kept on a computer database.

Retrievability:

Information is retrieved by name of the subject, Department of Justice case number, appraisal review number, or land unit number.

Safeguards:

Only employees of the Land Acquisition Section with access to the Division computer system have access to the system of records.

Retention and Disposal:

Records are retained during their useful life subject to National Achieves and Records administration record retention schedules.

System manager(s) and address:

Chief, Land Acquisition Section, Environment and Natural Resources Division, U.S. Department of Justice, 601 Pennsylvania Avenue, NW., Washington, DC 20004.

Notification procedure:

Address inquiries to the FOIA/Privacy Act Coordinator; Environment and Natural Resources Division; Policy, Legislation and Special Litigation Section; PO Box 4390; Ben Franklin Station; Washington, DC 20044-4390.

Record access procedures:

Submit in writing all requests for access, and clearly mark the envelope and letter, “Privacy Act Access Request.” Include in the request you full name, data and place of birth, case caption, or other information which may assist in locating the records you seek. Also include your notarized signature and a return address. Direct all access requests to the the FOIA/Privacy Act Coordinator; Environment and Natural resources Division; Policy, Legislation and Special Litigation Section; PO Box 4390, Ben Franklin Station, Washington, DC 20044-4390.

Contesting record procedures:

If you wish to contest or amend information maintained in the system, Direct your request to the FOIA/PA Coordinator Stating Clearly and concisely what information is being contested, the reasons for contesting it, and the proposed amendment to the information you seek.

Record source categories:

The record subject is the principal record source. The sources may be supplemented by others having knowledge of the subject's professional qualifications.

Exemptions claimed for the system:

None.

[FR Doc. 00-3115 Filed 2-22-00; 8:45 am]

BILLING CODE 4410-CJ-M